DEPARTMENT OF THE INTERIOR

Bureau of Indian Affairs

Proposed Collection of Information

AGENCY: Bureau of Indian Affairs, Interior.

ACTION: Notice.

SUMMARY: This notice announces that the Office of Indian Education Programs is seeking comments on the renewal of two Information Collection Requests: the Tribal Colleges and Universities Annual Report Form, OMB No. 1076-0105, and the Grants Application for Community Colleges, OMB No. 1076-0018, as required by the Paperwork Reduction Act of 1995.

DATES: Submit your comments and suggestions on or before October 28, 2002.

ADDRESSES: Written comments should be sent directly to Garry R. Martin, Bureau of Indian Affairs, Office of Indian Education Programs, 1849 C Street NW., Washington, DC 20240-0001. You may also send comments by facsimile to 202-219-9583.

FOR FURTHER INFORMATION CONTACT: Copies of the information collection may be obtained by contacting Garry R. Martin, 202-208-3478.

SUPPLEMENTARY INFORMATION:

Abstract

The information collections are necessary to assess the need for tribally controlled community college programs as required by 25 CFR part 41.

Request for Comments

Comments are invited on (a) whether the information collection is necessary for the proper performance of the functions of the agency, including whether the information will have practical utility; (b) the accuracy of the agency's estimate of the burden (hours and cost) of the collection of information, including the validity of the methodology and assumptions used; (c) ways to enhance the quality, utility and clarity of the information to be collected; and (d) ways to minimize the burden of the collection of the information on the respondents, including through the use of automated collection techniques or other forms of information technology. Please note that an agency may not sponsor or request, and an individual need not respond to, a collection of information unless it has a valid OMB Control Number.

It is our policy to make all comments available to the public for review during the hours of 9 a.m.-3 p.m. Monday through Friday except for legal holidays. If you wish to have your name and/or address withheld, you must state this prominently at the beginning of your comments. We will honor your request according to the requirements of the law. All comments from organizations or representatives will be available for review. We may withhold comments from review for other reasons.

Title: Grants, Tribal Colleges and Universities Annual Report Form.

OMB control number: 1076-0105.

Frequency: Annually.

Description of respondents: Tribal College and University institutions of higher learning, post-secondary educators, collegiate administrators.

Estimated completion time: 3 hours.

Number of Annual responses: 26.

Annual Burden hours: 78 hours.

Title: Grants Application for Community Colleges.

OMB approval number: 1076-0018.

Frequency: Annually.

Description of respondents: Tribal College and University institutions of higher learning, post-secondary educators, collegiate administrators.

Estimated completion time: 1 hour.

Number of Annual responses: 26.

Annual Burden hours: 26 hours.

Dated: August 23, 2002.
Neal A. McCaleb,
Assistant Secretary—Indian Affairs.

[FR Doc. 02-21968 Filed 8-27-02; 8:45 am]

BILLING CODE 4310-6W-P